DEPARTMENT OF TRANSPORTATION

Pipeline and Hazardous Materials Safety Administration

[Docket ID PHMSA-2013-0028]

Pipeline Safety: Incident and Accident Reports

AGENCY: Pipeline and Hazardous Materials Safety Administration (PHMSA), DOT.

ACTION: Notice of online availability of revised incident and accident report forms and request for supplemental reports.

SUMMARY: In December 2012, PHMSA revised forms PHMSA F 7100.2—Incident Report—Natural and Other Gas Transmission and Gathering Pipeline Systems and PHMSA F 7000-1—Accident Report—Hazardous Liquid Pipeline Systems. These revised forms are now available for electronic submittal in the PHMSA Portal. As described in this notice, PHMSA requests supplemental reports to improve the quality of the incident and accident data.

FOR FURTHER INFORMATION CONTACT: Blaine Keener by telephone at 202-366-0970 or by email at blaine.keener@dot.gov.

SUPPLEMENTARY INFORMATION:

The Pipeline and Hazardous Materials Safety Administration (PHMSA) requires that an operator of a covered pipeline facility file a written report within 30 days of certain adverse events, defined by regulation as either an incident or accident, 49 CFR part 191 and part 195, subpart B.¹ PHMSA further requires that gas transmission and gathering pipeline operators and hazardous liquid pipeline operators file those reports on the following forms respectively: (1) PHMSA Form F 7100.2, Incident Report—Natural and Other Gas Transmission and Gathering Pipeline Systems; and (2) PHMSA Form F 7000-1—Accident Report—Hazardous Liquid Pipeline Systems. PHMSA uses the information collected from these forms to identify trends in the occurrence of safety-related problems, to appropriately target its performance of risk-based inspections, and to assess the overall effectiveness of its regulatory program.

¹ Reportable events are referred to as “incidents” for gas pipelines, 49 CFR 191.3, and “accidents” for hazardous liquid pipelines, 49 CFR 195.50. An operator may also be required to file a supplemental report in certain circumstances.

PHMSA published a Federal Register notice on April 13, 2012, (77 FR 22387) inviting public comment on a proposal to make several minor revisions to the “Accident Report—Hazardous Liquid Pipeline Systems” and the “Incident Report—Natural and Other Gas Transmission and Gathering Pipeline Systems” forms. On September 21, 2012, PHMSA published a subsequent Federal Register notice (77 FR 58616) to respond to comments requested by (77 FR 22387), provide the public with an additional 30 days to comment on the proposed revisions to the forms and instructions, and announce that the revised Information Collections would be submitted to the Office of Management and Budget (OMB) for approval. On December 5, 2012, OMB approved revisions to the gas transmission and gathering incident report form under OMB control number 2137-0522 and the hazardous liquid accident report form under OMB control number 2137-0047.

The revised forms and instructions are available at http://www.phmsa.dot.gov/pipeline/library/forms, and should be used for all incidents/accidents that have occurred on or after January 1, 2010.

Form PHMSA F 7100.2—Incident Report—Natural and Other Gas Transmission and Gathering Pipeline Systems

PHMSA requests supplemental reports from operators who submitted reports for incidents occurring after January 1, 2010, with any of the following:

(1) “Pipe girth weld” was selected as the “item involved in incident” in Part C3 of the report. The revised report collects data about the pipe adjacent to the girth weld.

(2) “Function of pipeline system” is null in Part E5f of the report. The revised report collects the function of the pipeline system for all incidents.

Form PHMSA F 7000-1—Accident Report—Hazardous Liquid Pipeline Systems

PHMSA requests supplemental reports from operators who submitted reports for accidents occurring after January 1, 2010, with any of the following:

(1) The commodity value in Part A8 is crude oil, refined and/or petroleum product, or biofuel and the “estimated volume of intentional and/or controlled release/blowdown” is greater than zero. Volume of intentional release is not reported for these commodities. The revised instructions include guidance for reporting release volumes.

(2) Volume of commodity consumed by fire was included in the “estimated volume of commodity released unintentionally” in Part A9 of the report. The revised instructions include guidance for reporting release volumes.

(3) “Pipe girth weld” was selected as the “item involved in incident” in Part C3 of the report. The revised report collects data about the pipe adjacent to the girth weld.

(4) “Function of pipeline system” is null in Part E5f of the report. The revised report collects the function of the pipeline system for all accidents.

Jeffrey D. Wiese,
Associate Administrator for Pipeline Safety.

[FR Doc. 2013-05336 Filed 3-6-13; 8:45 am]

BILLING CODE 4910-60-P